ENVIRONMENTAL PROTECTION AGENCY

[EPA-HQ-OECA-2013-0347; FRL-9915-27-OEI]

Information Collection Request Submitted to OMB for Review and Approval; Comment Request; NESHAP for Epoxy Resin and Non-Nylon Polyamide Production (Renewal)

AGENCY: Environmental Protection Agency (EPA).

ACTION: Notice.

SUMMARY: The Environmental Protection Agency has submitted an information collection request (ICR), “NESHAP for Epoxy Resin and Non-Nylon Polyamide Production (Renewal)” (EPA ICR No. 1681.08, OMB Control No. 2060-0290) to the Office of Management and Budget (OMB) for review and approval in accordance with the Paperwork Reduction Act (44 U.S.C. 3501 et seq.). This is a proposed extension of the ICR, which is currently approved through August 31, 2014. Public comments were previously requested via the Federal Register (78 FR 35023) on June 11, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 15, 2014.

ADDRESSES: Submit your comments, referencing Docket ID Number EPA-HQ-OECA-2013-0347, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: Sources are owners/operators of facilities which produce polymers and resins from epichlorohydrin and sources which manufacture epichlorohydrin-modified non-nylon polyamide resins. EPA and delegated states will use the information identify new, modified, reconstructed, or existing sources, or process changes which may affect the source's status and to ensure that affected sources are meeting the standards.

Form Numbers: None.

Respondents/affected entities: Epoxy resin and non-nylon polyamide production facilities.

Respondent's obligation to respond: Mandatory (40 CFR Part 63, Subpart W).

Estimated number of respondents: 7 (total).

Frequency of response: Initially, occasionally, quarterly and semiannually.

Total estimated burden: 3,961 hours (per year). Burden is defined at 5 CFR 1320.3(b).

Total estimated cost: $389,981 (per year), includes $9,000 annualized capital or operation & maintenance costs.

Changes in the Estimates: There in an adjustment increase in the respondent burden and a decrease in the Agency burden. In addition, there is an increase in the total number of responses. This is not due to program changes. These changes occurred because the previous ICR did not consistently account for the respondent reporting requirements. This ICR corrected the number and frequency of each report, including semiannual SSM reports, quarterly excess emission reports, and annual CMS summary reports, to ensure that all burden calculations are consistent with the regulatory requirement. The previous ICR also included several reporting burden under Table 1, Section 5 Recordkeeping Requirements. This has been corrected in the current ICR.

Spencer Clark,
Acting Director, Collection Strategies Division.

[FR Doc. 2014-19369 Filed 8-14-14; 8:45 am]

BILLING CODE 6560-50-P